DEPARTMENT OF COMMERCE

International Trade Administration

University of Vermont; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 A.M. and 5 P.M. in Suite 4100W, U.S. Department of Commerce, Franklin Court Building, 1099 14th Street, NW., Washington, DC.

Docket Number: 03-026. Applicant: University of Vermont, Burlington, VT 05405. Instrument: Cuvette System for muscle fiber investigation. Manufacturer: Scientific Instruments GmbH, Germany. Intended Use: See notice at 68 FR 36770, June 19, 2003.

Comments: None received. Decision: Approved. No instrument of equivalent scientific value to the foreign instrument, for such purposes as it is intended to be used, is being manufactured in the United States. Reasons: The foreign instrument provides a laser-controlled perfusion cuvette system capable of both measuring the contractile force of a strip of muscle tissue and viewing the tissue with an inverted microscope. The National Institutes of Health advises in its memorandum of June 9, 2003 that (1) This capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-18750 Filed 7-22-03; 8:45 am]

BILLING CODE 3510-DS-P